ENVIRONMENTAL PROTECTION AGENCY

40 CFR Part 70

[Petition IV-2000-1; FRL-7167-5]

Clean Air Act Operating Permit Program; Petition for Objection to State Operating Permit for Kerr-McGee Chemicals, LLC; Mobile County, AL

AGENCY: Environmental Protection Agency (EPA).

ACTION: Notice of final order on petition to object to a state operating permit.

SUMMARY: This document announces that the EPA Administrator has denied a petition to object to a state operating permit issued by the Alabama Department of Environmental Management to Kerr-McGee Chemicals, LLC, Mobile County, Alabama. Pursuant to section 505(b)(2) of the Clean Air Act (Act), petitioners may seek judicial review of the petition in the United States Court of Appeals for the appropriate circuit within 60 days of this decision under section 307 of the Act.

ADDRESSES: You may review copies of the final order, the petition, and other supporting information at EPA Region 4, Air, Pesticides and Toxics Management Division, 61 Forsyth Street, S.W., Atlanta, Georgia, 30303-8960. If you wish to examine these documents, you should make an appointment at least 24 hours before visiting day. The final order is also available electronically at the following address: http://www.epa.gov/region07/programs/artd/air/title5/petitiondb/petitions/kerrmcgee_decision2000.pdf.

FOR FURTHER INFORMATION CONTACT: Joel Huey, Air Permits Section, EPA Region 4, at (404) 562-9104 or huey.joel@epa.gov.

SUPPLEMENTARY INFORMATION: The Act affords EPA a 45-day period to review, and object to as appropriate, operating permits proposed by state permitting authorities. Section 505(b)(2) of the Act authorizes any person to petition the EPA Administrator within 60 days after the expiration of this review period to object to state operating permits if EPA has not done so. Petitions must be based only on objections to the permit that were raised with reasonable specificity during the public comment period provided by the state, unless the petitioner demonstrates that it was impracticable to raise these issues during the comment period or the grounds for the issues arose after this period. Mobile Bay Watch, Inc., submitted a petition to the Administrator on May 22, 2000, seeking EPA's objection to the operating permit issued to Kerr-McGee Chemicals, LLC. The petitioner maintains that the Kerr-McGee Chemicals operating permit is inconsistent with the Act because the permit fails to: (1) Require adequate periodic monitoring of facility emissions; (2) require the facility to prepare a Risk Management Plan as well as Worst Case Scenario and Planning Case Scenario; and (3) reflect the comments submitted by Mobile Bay Watch during the 30-day draft permit period. Mobile Bay Watch also bases its petition on the following statements: (1) Kerr-McGee requested in its permit application that the number of federally enforceable limitations in the operating permit be minimized; (2) Kerr-McGee requested in its permit application that the permit include a permit shield; (3) the period between the date of the permit application and the issuance of the draft permit was excessive; and (4) EPA failed to fully review the Kerr-McGee Chemicals permit. On February 1, 2002, the Administrator issued an order denying the petition. The order explains the reasons behind EPA's conclusion that the petitioner has failed to demonstrate that the Kerr-McGee Chemicals permit does not assure compliance with the Act on the grounds raised.

Dated: March 18, 2002.
A. Stanley Meiburg,
Deputy Regional Administrator, Region 4.

[FR Doc. 02-8063 Filed 4-2-02; 8:45 am]

BILLING CODE 6560-50-P